DEPARTMENT OF HEALTH AND HUMAN SERVICES

Announcement of Requirements and Registration for “Mobilizing Data for Pressure Ulcer Prevention Challenge”

AGENCY: Office of the National Coordinator for Health Information Technology, HHS; Award Approving Official: Farzad Mostashari, National Coordinator for Health Information Technology.

ACTION: Notice.

SUMMARY: According to the Agency for Healthcare Research and Quality (AHRQ), each year more than 2.5 million people in the United States are affected by skin breakdowns that cause pain, increased risk for serious infection, and increased health care utilization. The National Pressure Ulcer Advisory Panel (NPUAP) serves as the authoritative voice for improved patient outcomes in pressure ulcer prevention and treatment through public policy, education and research, and publishes resources and documents at www.npuap.org/index.html. AHRQ has published an acute care toolkit for prevention of pressure ulcers at www.ahrq.gov/research/ltc/pressureulcertoolkit/putool7b.htm. Many of today's electronic documentation systems require nurses to enter oversimplified text narratives or check boxes. Even when documentation systems include standard terminology, the data is locked inside proprietary software.

Development of a mobile health application (app) for iPhone, iPad, or Android devices that implements standards for documenting and exchanging health information about pressure ulcers will facilitate meaningful information exchange and improve the patient experience and coordination of care across the healthcare continuum while reducing health care costs. A mobile health app would support nurses, in partnership with patients, families, caregivers and the multidisciplinary health care team, to reduce the incidence and severity of pressure ulcers.

There are two goals for the Mobilizing Data for Pressure Ulcer Prevention Challenge. First, the development of a standard bedside pressure ulcer assessment tool, and second, the broader goal to promote the integration of nursing content into common information models and Systematized Nomenclature of Medicine Clinical Terms (SNOMED CT). With documentation tools that include common information models and standard terminology for structured representation of appropriate nursing knowledge, nurses achieve the ability to track changes in patient status and to exchange information to improve continuity of care.

The statutory authority for this challenge competition is Section 105 of the America COMPETES Reauthorization Act of 2010 (Pub. L. 11-358).

DATES: Effective on December 5, 2012. Challenge submission period ends April 29, 2013, 11:59 p.m. et.

FOR FURTHER INFORMATION CONTACT: Adam Wong, 202-720-2866.

SUPPLEMENTARY INFORMATION:

Subject of Challenge Competition

The “Mobilizing Data for Pressure Ulcer Prevention Challenge” is a multidisciplinary call to develop a mobile health app to facilitate observation and documentation for prevention, early detection and appropriate management of pressure ulcers in clinical settings. The app is intended to encourage the use of information exchange standards. The challenge will demonstrate the value of common models and terminologies and promote the continued integration of nursing content into SNOMED CT, as well as the development of common clinical information models of interest to nursing.

Submissions must include the following attributes:

• Provide an easy-to-understand and intuitive user interface

• Enter information about the pressure ulcer, including skin color, temperature, and moisture

• Capture photos of the pressure ulcer

• Generate a clinical assessment document

• Apply the following HL7 health care information systems security standards and knowledge, available at http://wiki.hl7.org/index.php?title=Pressure_Ulcer_Prevention:

○ Reconciled PDF (October 2011) with introduction (http://wiki.hl7.org/images/e/eb/PressureUlcerPrevention_DomainAnalysisModel_Oct2011pdf.zip)

○ The model, Sparx Enterprise Architect (http://wiki.hl7.org/images/4/4b/PressureUlcerPrevention_Oct2011_reconciled.zip)

• Apply the terminology and candidate models in the LOINC® Nursing Subcommittee and the International Health Terminology Standards Development Organization (IHTSDO) Nursing Special Interest Group (SIG), available at https://csfe.aceworkspace.net/sf/sfmain/do/viewProject/projects.nursing_sig

• Collect, display and transmit content suitable for reporting for meaningful use, quality measures, research and for health information exchange with an electronic health record (EHR) and/or personal health record (PHR)

○ Where applicable, use Nationwide Health Information Network (NwHIN) standards and services including, but not limited to, transport (Direct, web services), content (Transitions of Care, CCD/CCR), and standardized vocabularies

Eligibility Rules for Participating in the Competition

To be eligible to win a prize under this challenge, an individual or entity—

(1) Shall have registered to participate in the competition under the rules promulgated by the Office of the National Coordinator for Health Information Technology.

(2) Shall have complied with all the requirements under this section.

(3) In the case of a private entity, shall be incorporated in and maintain a primary place of business in the United States, and in the case of an individual, whether participating singly or in a group, shall be a citizen or permanent resident of the United States.

(4) May not be a Federal entity or Federal employee acting within the scope of their employment.

(5) Shall not be an HHS employee working on their applications or submissions during assigned duty hours.

(6) Shall not be an employee of Office of the National Coordinator for Health IT.

(7) Federal grantees may not use Federal funds to develop COMPETES Act challenge applications unless consistent with the purpose of their grant award.

(8) Federal contractors may not use Federal funds from a contract to develop COMPETES Act challenge applications or to fund efforts in support of a COMPETES Act challenge submission.

An individual or entity shall not be deemed ineligible because the individual or entity used Federal facilities or consulted with Federal employees during a competition if the facilities and employees are made available to all individuals and entities participating in the competition on an equitable basis.

Entrants must agree to assume any and all risks and waive claims against the Federal Government and its related entities, except in the case of willful misconduct, for any injury, death, damage, or loss of property, revenue, or profits, whether direct, indirect, or consequential, arising from my participation in this prize contest, whether the injury, death, damage, or loss arises through negligence or otherwise.

Entrants must also agree to indemnify the Federal Government against third party claims for damages arising from or related to competition activities.

Registration Process for Participants

To register for this challenge participants should either:

Access the www.challenge.gov Web site and search for the “Mobilizing Data for Pressure Ulcer Prevention Challenge”.

Access the ONC Investing in Innovation (i2) Challenge Web site at:

○ http://www.health2con.com/devchallenge/challenges/onc-i2-challenges/

○ A registration link for the challenge can be found on the landing page under the challenge description.

Amount of the Prize

First Prize: $60,000

Second Prize: $15,000

Third Prize: $5,000

Awards may be subject to Federal income taxes and HHS will comply with IRS withholding and reporting requirements, where applicable.

Payment of the Prize

Prize will be paid by contractor.

Basis Upon Which Winner Will Be Selected

The review panel will make selections based upon the following criteria:

• Innovation

• Design and usability, including user friendliness and attractiveness of the interface

• Use of National Pressure Ulcer Advisory Panel (NPUAP) guidance to improve pressure ulcer prevention and care

• Ease of integration with PHR/EHR interface

• Application of the HL7 Pressure Ulcer Prevention Domain Analysis Model (DAM)

• Application of the LOINC® Nursing Subcommittee and the International Health Terminology Standards Development Organization (IHTSDO) Nursing Special Interest Group (SIG) terminology and candidate models

In order for an entry to be eligible to win this Challenge, it must meet the following requirements:

1. General—Contestants must provide continuous access to the app, a detailed description of the app, instructions on how to install and operate the app, and system requirements required to run the app (collectively, “Submission”).

2. Acceptable platforms—The tool must be designed for use with the Web, a personal computer, a mobile handheld device, console, or any platform broadly accessible on the open Internet.

3. No HHS or ONC logo—The app must not use HHS' or ONC's logo or official seal in the Submission, and must not claim endorsement.

4. Section 508 Compliance—Contestants must acknowledge that they understand that, as a pre-requisite to any subsequent acquisition by FAR contract or other method, they may be required to make their proposed solution compliant with Section 508 accessibility and usability requirements at their own expense. Any electronic information technology that is ultimately obtained by HHS for its use, development, or maintenance must meet Section 508 accessibility and usability standards. Past experience has demonstrated that it can be costly for solution-providers to “retrofit” solutions if remediation is later needed. The HHS Section 508 Evaluation Product Assessment Template, available at http://www.hhs.gov/od/vendors/index.html, provides a useful roadmap for developers to review. It is a simple, web-based checklist utilized by HHS officials to allow vendors to document how their products do or do not meet the various Section 508 requirements.

5. Functionality/Accuracy—A Submission may be disqualified if the application fails to function as expressed in the description provided by the user, or if the application provides inaccurate or incomplete information.

6. Security—Submissions must be free of malware. Contestant agrees that the ONC may conduct testing on the app to determine whether malware or other security threats may be present. ONC may disqualify the app if, in ONC's judgment, the app may damage government or others' equipment or operating environment.

Additional Information

Since the Health Level 7 (HL7) Pressure Ulcer Prevention Domain Analysis Model (DAM) does not address the use of photographic images, the ONC invites suggestions for extending the HL7 DAM to accommodate images.

Ownership of intellectual property is determined by the following:

• Each entrant retains title and full ownership in and to their submission. Entrants expressly reserve all intellectual property rights not expressly granted under the challenge agreement.

• By participating in the challenge, each entrant hereby irrevocably grants to Sponsor and Administrator a limited, non-exclusive, royalty free, worldwide, license and right to reproduce, publically perform, publically display, and use the Submission to the extent necessary to administer the challenge, and to publically perform and publically display the Submission, including, without limitation, for advertising and promotional purposes relating to the challenge.

Authority: 15 U.S.C. 3719.

Dated: November 20, 2012.
Farzad Mostashari,
National Coordinator for Health Information Technology.

[FR Doc. 2012-29524 Filed 12-5-12; 8:45 am]

BILLING CODE 4150-45-P